EQUAL EMPLOYMENT OPPORTUNITY COMMISSION

Sunshine Act Notice

AGENCY HOLDING THE MEETING: Equal Employment Opportunity Commission.

“Federal Register” CITATION OF PREVIOUS ANNOUNCEMENT: 75 FR 80810, Thursday, December 23, 2010.

PREVIOUSLY ANNOUNCED TIME AND DATE OF MEETING: Wednesday, December 29, 2010, 10 a.m. (Eastern Time).

CHANGE IN THE MEETING: The meeting has been cancelled.

CONTACT PERSON FOR MORE INFORMATION: Stephen Llewellyn, Executive Officer on (202) 663-4070.

Dated: December 27, 2010.
Stephen Llewellyn,
Executive Officer, Executive Secretariat.

[FR Doc. 2010-32962 Filed 12-27-10; 4:15 pm]

BILLING CODE 6570-01-P